DEPARTMENT OF JUSTICE

Antitrust Division

Notice Pursuant to the National Cooperative Research and Production Act of 1933; Open DeviceNet Vendor Association, Inc.

Notice is hereby given that, on May 18, 2005, pursuant to Section 6(a) of the National Cooperative Research and Production Act of 1993, 15 U.S.C. 4301 et seq. (“the Act”), Open DeviceNet Vendor Association, Inc. (“ODVA”) has filed written notifications simultaneously with the Attorney General and the Federal Trade Commission disclosing changes in its membership. The notifications were filed for the purpose of extending the Act's provisions limiting the recovery of antitrust plaintiffs to actual damages under specified circumstances. Specifically, CDA Systems Ltd., London, Ontario Canada; Power-IO LLC, Naperville, IL, Industrial Control Communication, Inc., The Woodlands, TX; RADIC Technologies Incorporated, Milpitas, CA; ICP DAS Co., Ltd., Kao Hsiung, Taiwan; Mencom Corporation, Gainesville, GA; ATI Industrial Automation, Inc., Apex, NC; Kun Hung Electric Co., Ltd., Seoul, Republic of Korea; AuCom Electronics Ltd., Christchurch, New Zealand; HanYang System, Kyunngi-do, Republic of Korea; Taiyo Electric Wire & Cable Co., Ltd., Osaka City, Japan; PPT Vision, Inc., Eden Prairie, MN; GE Multilin, Markham, Ontario, Canada; SoftDEL Systems Limited, Mumbai, India; Woodhead Software & Electronics France, Caudebec Les Elbeuf, France; Biffi Italia S.r.L., Fiorenzuola d'Arda, Italy; HIMA Paul Hildebrandt GmbH & Co., KG, Bruehl, Germany; Beck IPC GmbH, Pohlheim, Germany; Pilz GmbH & Co., Ostifildern, Germany; Scientific Technologies, Incorporated, Fremont, CA; Jetter AG, Ludwigsburg, Germany; and PMA GmbH, Kassel, Germany have been added as parties to this venture.

Also, Weidmueller Inc., Richmond, VA; Hitachi Cable Ltd., Ibaraki, Japan; Industrial Communication Technologies, Newburyport, MA; Hyde Part Electronics, Inc., Dayton, OH; Alpha Gear Drives, Inc., Elk Grove Village, IL; Trimble AB, Dayton, OH; Livingston & Co., Inc., West Lebanon, NH; AC Technology Corp., Uxbridge, MA; POSCON, Seoul, Republic of Korea; Shin Ho System Co., Ltd., Inchon, Republic of Korea; HANA Information Technology Co., Ltd., Pusan, Republic of Korea; HAN-MI Co., Ltd., Incheon, Republic of Korea; uniNtech, Seoul, Republic of Korea; Worcester Controls Corporation, Cookeville, TN; Lincoln Electric Company, Cleveland, OH; System Controls, Limited, Auckland, New Zealand; ICP Panel-Tec., Inc., Huntsville, AL; Vaccon Company, Inc., Medfield, MA; Bellofram Corporation, Newell, WV; and Holec Holland N.V., Hengelo, The Netherlands have withdrawn as parties to this venture. The following members have changed their names: Belden Wire & Cable to Belden CDT Electronics Division, Richmond, IN; and Tait Control Systems to TCS (NZ) Ltd., Hamilton, New Zealand.

No other changes have been made in either the membership or planned activity of the group research project. Membership in this group research project remains open, and ODVA intends to file additional written notification disclosing all changes in membership.

On June 21, 1995, ODVA filed its original notification pursuant to Section 6(a) of the Act. The Department of Justice published a notice in the Federal Register pursuant to Section 6(b) of the Act on February 15, 1996 (61 FR 6039).

The last notification was filed with the Department on October 13, 2004. A notice was published in the Federal Register pursuant to Section 6(b) of the Act on December 3, 2004 (69 FR 70283).

Dorothy B. Fountain,
Deputy Director of Operations, Antitrust Division.

[FR Doc. 05-11599 Filed 6-10-05; 8:45 am]

BILLING CODE 4410-11-M